DEPARTMENT OF AGRICULTURE

Forest Service

Dakota Prairie Grasslands, North Dakota; Oil and Gas Development Supplemental Environmental Impact Statement

AGENCY: Forest Service, USDA.

ACTION: Notice of intent to prepare a supplemental environmental impact statement.

SUMMARY: In June of 2003, the Dakota Prairie Grasslands Record of Decision for Oil and Gas Leasing on the Little Missouri and Cedar River National Grasslands was signed. This decision spelled out leasing stipulations, consistent with the Revised Dakota Prairie Grasslands Land and Resource Management Plan, based on the 2001 Northern Great Plains Management Plans Revision FEIS which included a Reasonably Foreseeable Development Scenario (RFDS) for Oil and Gas for the Little Missouri and Cedar River National Grasslands.

In the 11 years since the analysis was completed there has been a change in the manner in which oil and gas development has occurred on the Dakota Prairie Grasslands, primarily that multiple (4-6) wells can be drilled from a single well pad rather than just one; as was most common in the past. The improvements in horizontal drilling and hydraulic fracturing technologies to improve the ability to access oil and gas located deep underground are the primary reasons for these changes in development.

At this time it is necessary to review the analysis to determine whether or not the effects of the changed pattern of oil and gas development are different from those effects considered in the 2001 FEIS, and whether or not there is a need to change Land and Resource Management Plan standards and guidelines (and possibly leasing stipulations) in order to continue oil and gas development on the Little Missouri and Cedar River National Grassland units of the Dakota Prairie Grasslands.

DATES: Scoping is not required for supplements to environmental impact statements (40 CFR 1502.9(c)(4)). Review and comments will be solicited once the Draft SEIS is filed with EPA. The draft supplemental environmental impact statement is expected in February, 2013 and the final supplemental environmental impact statement is expected in May, 2013.

FOR FURTHER INFORMATION CONTACT: Karen Dunlap, Interdisciplinary Team Leader, at 240 W. Century Avenue, Bismarck, ND 58503, by email at kdunlap@fs.fed.us or by phone at 701-250-4463 x105.

Individuals who use telecommunication devices for the deaf (TDD) may call the Federal Information Relay Service (FIRS) at 1-800-877-8339 between 8 a.m. and 8 p.m., Eastern Time, Monday through Friday.

SUPPLEMENTARY INFORMATION:

Purpose and Need for Action

In light of a changed pattern of oil and gas activity from what was anticipated in the 2001 RFDS, there is a need for the DPG to supplement our analysis to determine if any changes need to be made to the stipulations in the 2003 Oil and Gas Leasing ROD that authorizes oil and gas leasing on the DPG. The purpose of the analysis is to determine whether or not the effects anticipated in the 2001 FEIS are still accurate and, if they are not, whether or not any additional management direction and/or leasing stipulations are necessary to protect National Forest System lands while still allowing for oil and gas development on the DPG on those lands previously determined to be administratively available for leasing.

Proposed Action

The Dakota Prairie Grasslands has conducted preliminary analysis of the changed condition and, at this time, proposes no change to management direction in the LRMP or to leasing stipulations from the 2003 ROD. However, consistent with 40 CFR 1502.9(2), we will supplement the FEIS to consider the changed pattern of oil and gas development relative to the updated RFDS. The updated RFDS is available by request at the address below or online at: http://www.fs.fed.us/nepa/fs-usda-pop.php/?project=40652.

Responsible Official

Dennis Neitzke, Grasslands Supervisor, Dakota Prairie Grasslands, 240 W. Century Avenue, Bismarck, ND 58503.

Nature of Decision To Be Made

Based on the supplemented EIS, the Grasslands Supervisor will determine whether or not additional management direction would be incorporated into the Dakota Prairie Grasslands LRMP.

Dated: December 11, 2012.
Sherri K. Schwenke,
Acting Grasslands Supervisor.

[FR Doc. 2012-30407 Filed 12-18-12; 8:45 am]

BILLING CODE 3410-11-P